SECURITIES AND EXCHANGE COMMISSION

[SEC File No. 270-095, OMB Control No. 3235-0084]

Submission for OMB Review; Comment Request; Extension: Rule 17Ac2-1

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17Ac2-1 (17 CFR 240.17Ac2-1), under the Securities Exchange Act of 1934 (15 U.S.C. 78a et seq.).

Rule 17Ac2-1, pursuant to Section 17A(c) of the Exchange Act, generally requires transfer agents for whom the Commission is the transfer agent's Appropriate Regulatory Agency (“ARA”), to file an application for registration with the Commission on Form TA-1 and to amend their registrations under certain circumstances.

Specifically, Rule 17Ac2-1 requires transfer agents to file a Form TA-1 application for registration with the Commission where the Commission is their ARA. Such transfer agents must also amend their Form TA-1 if the existing information on their Form TA-1 becomes inaccurate, misleading, or incomplete within 60 days following the date the information became inaccurate, misleading, or incomplete. Registration filings on Form TA-1 and amendments thereto must be filed with the Commission electronically, absent an exemption, on EDGAR pursuant to Regulation S-T (17 CFR 232).

The Commission annually receives approximately 209 filings on Form TA-1 from transfer agents required to register as such with the Commission. Included in this figure are approximately 196 amendments made annually by transfer agents to their Form TA-1 as required by Rule 17Ac2-1(c) to address information that has become inaccurate, misleading, or incomplete and approximately 13 new applications by transfer agents for registration on Form TA-1 as required by Rule 17Ac2-1(a). Based on past submissions, the staff estimates that on average approximately twelve hours are required for initial completion of Form TA-1 and that on average one and one-half hours are required for an amendment to Form TA-1 by each such firm. Thus, the subtotal burden for new applications for registration filed on Form TA-1 each year is approximately 156 hours (12 hours times 13 filers = 156), and the subtotal burden for amendments to Form TA-1 filed each year is approximately 294 hours (1.5 hours times 196 filers = 294). The cumulative total is approximately 450 burden hours per year (156 hours plus 294 hours).

Of the approximately 450 hours per year associated with Rule 17Ac2-1, the Commission staff estimates that (i) sixty percent (270 hours) are spent by compliance staff at an estimated hourly wage of $344, for a total of $92,880 per year (270 hours × $344 per hour = $92,880); (ii) forty percent (180 hours) are spent by attorneys at an estimated hourly wage of $462, for a total of $83,160 per year (180 hours × $462 per hour = $83,160 per year); and (iii) the total internal cost of compliance associated with the Rule is thus approximately $176,040 per year ($92,880 in compliance staff costs + $83,160 in attorney costs = $176,040 per year).

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by July 26, 2024 to (i) www.reginfo.gov/public/do/PRAMain and (ii) David Bottom, Director/Chief Information Officer, Securities and Exchange Commission, c/o John Pezzullo, 100 F Street NE, Washington, DC 20549, or by sending an email to: PRA_Mailbox@sec.gov.

Dated: June 20, 2024.
Sherry R. Haywood,
Assistant Secretary.

[FR Doc. 2024-13947 Filed 6-25-24; 8:45 am]

BILLING CODE 8011-01-P